DEPARTMENT OF THE INTERIOR

Bureau of Land Management

[OR-957-00-1420-BJ: GP03-0016]

Filing of Plats of Survey: Oregon/Washington

AGENCY: Bureau of Land Management.

ACTION: Notice.

SUMMARY: The plats of survey of the following described lands were officially filed in the Oregon State Office, Portland, Oregon, on August 15, 2002.

Willamette Meridian

Oregon

T. 28 S., R. 10 W., accepted May 29, 2002.

T. 1 N., R. 36 E., accepted June 21, 2002.

T. 4 S., R. 5 W., accepted June 28, 2002.

T. 40 S., R. 6 E., accepted July 23, 2002.

T. 30 S., R. 2 W., accepted July 24, 2002.

T. 1 S., R. 33 E., accepted July 24, 2002.

Washington

T. 3 N., R. 19 E., accepted August 1, 2002.

The plats of survey of the following described lands were officially filed in the Oregon State Office, Portland, Oregon, on September 26, 2002.

Oregon

T. 1 N., R. 33 E., accepted September 23, 2002.

T. 1 S., R. 5 W., accepted September 23, 2002.

T. 3 S., R. 5 W., accepted September 23, 2002.

T. 25 S., R. 11 W., accepted September 23, 2002.

T. 28 S., R. 11 W., accepted September 23, 2002.

T. 30 S., R. 3 W., accepted September 23, 2002.

T. 31 S., R. 4 W., accepted September 23, 2002.

T. 39 S., R. 3 W., accepted September 23, 2002.

T. 40 S., R. 4 E., accepted September 23, 2002.

Washington

T. 28 N., R. 38 E., accepted August 28, 2002.

T. 28 N., R. 39 E., accepted August 28, 2002.

The plat of survey of the following described lands is scheduled to be officially filed in the Oregon State Office, Portland, Oregon, 30 calendar days from the date of this publication.

Washington

T. 4 N., R. 23 E., accepted October 2, 2002.

A copy of the plats may be obtained from the Oregon State Office, Bureau of Land Management, 333 SW. 1st Avenue, Portland, Oregon 97204, upon required payment. A person or party who wishes to protest against a survey must file with the State Director, Bureau of Land Management, Portland, Oregon, a notice that they wish to protest.

FOR FURTHER INFORMATION CONTACT: Bureau of Land Management, (333 SW. 1st Avenue) PO Box 2965, Portland, Oregon 97208.

Robert D. DeViney, Jr.,
Branch of Realty and Records Services.

[FR Doc. 02-29125 Filed 11-15-02; 8:45 am]

BILLING CODE 4310-33-P